DEPARTMENT OF HEALTH AND HUMAN SERVICES

Announcement of Meetings of the Tick-Borne Disease Working Group

AGENCY: Office of HIV/AIDS and Infectious Disease Policy, Office of the Assistant Secretary for Health, Office of the Secretary, Department of Health and Human Services.

ACTION: Notice.

SUMMARY: The Department of Health and Human Services (HHS), in accordance with Section 2062 of the 21st Century Cures Act, announces the inaugural meetings of the Tick-Borne Disease Working Group (Working Group). For these first meetings, Working Group members will focus on plans to submit a report to the Secretary of HHS and Congress that is due December 2018. The report will address a number of issues related to tick-borne diseases, including: Ongoing research; advances in research; Federal activities; gaps in research; the Working Group's meetings; and the comments received by the Working Group. The report will also include any recommendations to the Secretary of Health and Human Services. Planning will include developing plans to solicit stakeholder input and establish subcommittees. Working Group members will also determine how and when future meetings will be conducted.

DATES: December 11, 2017, from 12:30 p.m. to 4:30 p.m., Eastern Time, and December 12, 2017 from 9:00 a.m. to 4:30 p.m., Eastern Time.

ADDRESSES: Hubert H. Humphrey Building, Great Hall, 200 Independence Avenue SW., Washington, DC 20201; via webcast at: https://www.hhs.gov/ash/advisory-committees/tickbornedisease/index.html.

FOR FURTHER INFORMATION CONTACT: James Berger, Office of HIV/AIDS and Infectious Disease Policy, Office of the Assistant Secretary for Health, Department of Health and Human Services; via email at tickbornedisease@hhs.gov.

SUPPLEMENTARY INFORMATION: Members of the public may attend the meetings in person or via webcast at https://www.hhs.gov/ash/advisory-committees/tickbornedisease/index.html.

In-person attendance at the meetings is limited to space available; therefore preregistration for public members is advisable and can be accomplished by registering at http://events.r20.constantcontact.com/register/event?llr=zz7zptzab&oeidk=a07edrodfu088eae0cf by Friday, December 8, 2017. On the day of the meetings, seating will be provided first to persons who have preregistered. People who have not preregistered will be accommodated on a first come, first served basis if additional seats are still available 10 minutes before the meetings start. Non-U.S. citizens who plan to attend in person are required to provide additional information and must notify the Working Group support staff via email at tickbornedisease@hhs.gov before November 30, 2017. Members of the public who wish to attend the meetings should enter from Independence Avenue. Please allow extra time to get through security.

The Working Group invites public comment on issues related to the Working Group's charge. It may be provided in-person at the meetings or in writing. Persons who wish to provide public comment in person should submit a request to do so via email at tickbornedisease@hhs.gov on or before December 1, 2017. In-person comments will be limited to three minutes each to accommodate as many speakers as possible. A total of 60 minutes will be allocated to public comment and may be divided between the two days of meetings. If more requests are received than can be accommodated, speakers will be randomly selected. The nature of the comments will not be considered in making this selection.

Public comment may also be provided in writing only. Individuals who would like to provide written public comment should send their comments to tickbornedisease@hhs.gov on or before December 6, 2017.

Meeting information is available at the group's Web page: https://www.hhs.gov/ash/advisory-committees/tickbornedisease/index.html or by contacting the Working Group via email at tickbornedisease@hhs.gov to request additional information.

Purpose of Meetings: Working Group members will focus on plans to submit a report to the Secretary of HHS and Congress that is due December 2018. The report will address a number of issues related to tick-borne diseases, including: Ongoing research; advances in research; Federal activities; gaps in research; the Working Group's meetings; and the comments received by the Working Group. The report will also include any recommendations to the Secretary of Health and Human Services. Planning will include developing plans to solicit stakeholder input and establish subcommittees. Working Group members will also determine how and when future meetings will be conducted.

Background and Authority: The Tick-Borne Disease Working Group was established on August 10, 2017, in accordance with Section 2062 of the 21st Century Cures Act, and the Federal Advisory Committee Act, 5 U.S.C. App., as amended, to provide expertise and review all HHS efforts related to tick-borne diseases to help ensure interagency coordination and minimize overlap, examine research priorities, and identify and address unmet needs. The Working Group will submit a report to the Secretary of HHS and Congress on issues related to tick-borne diseases, including: Ongoing research: Advances in research: Federal activities; gaps in research; the Working Group's meetings; and the comments by the Working Group.

Structure, Membership, and Operation: The Working Group consists of 14 members selected to represent a diverse range of stakeholder perspectives. Seven members were nominated and selected from the public, and seven members, or their designees, represent federal agencies doing this work. A roster of Working Group members is available at the Working Group's Web page: https://www.hhs.gov/ash/advisory-committees/tickbornedisease/index.html.

Dated: November 15, 2017.
Richard Wolitski,
Director, Office of HIV/AIDS and Infectious Disease Policy, Designated Federal Officer, Tick-Borne Disease Working Group.

[FR Doc. 2017-25425 Filed 11-22-17; 8:45 am]

BILLING CODE 4150-28-P